DEPARTMENT OF HOMELAND SECURITY

Transportation Security Administration

[Docket No. TSA-2009-0024]

Enforcement Actions Summary

AGENCY: Transportation Security Administration, DHS.

ACTION: Notice of availability.

SUMMARY: The Transportation Security Administration (TSA) is providing notice that it has issued an annual summary of all enforcement actions taken by TSA under the authority granted in the Implementing Recommendations of the 9/11 Commission Act of 2007.

FOR FURTHER INFORMATION CONTACT: Emily Su, Assistant Chief Counsel, Civil Enforcement, Office of the Chief Counsel, TSA-2, Transportation Security Administration, 601 South 12th Street, Arlington, VA 20598-6002; telephone (571) 227-2305; facsimile (571) 227-1378; email emily.su@dhs.gov.

SUPPLEMENTARY INFORMATION:

Background

On August 3, 2007, section 1302(a) of the Implementing Recommendations of the 9/11 Commission Act of 2007 (the 9/11 Act), Public Law 110-53, 121 Stat. 392, gave TSA new authority to assess civil penalties for violations of any surface transportation requirements under title 49 of the U.S. Code (U.S.C.) and for any violations of chapter 701 of title 46 of the U.S. Code, which governs transportation worker identification credentials (TWICs).

Section 1302(a) of the 9/11 Act, codified at 49 U.S.C. 114(v), authorizes the Secretary of the Department of Homeland Security (DHS) to impose civil penalties of up to $10,000 per violation of any surface transportation requirement under 49 U.S.C. or any requirement related to TWICs under 46 U.S.C. chapter 701. TSA exercises this function under delegated authority from the Secretary. See DHS Delegation No. 7060-2.

Under 49 U.S.C. 114(v)(7)(A), TSA is required to provide the public with an annual summary of all enforcement actions taken by TSA under this subsection; and include in each such summary the identifying information of each enforcement action, the type of alleged violation, the penalty or penalties proposed, and the final assessment amount of each penalty. This summary is for calendar year 2014. TSA will publish a summary of all enforcement actions taken under the statute in January to cover the previous calendar year.

Document Availability

You can get an electronic copy of both this notice and the enforcement actions summary on the Internet by searching the electronic Federal Docket Management System (FDMS) Web page at http://www.regulations.gov, Docket No. TSA-2009-0024;

You can get an electronic copy of only this notice on the Internet by—

(1) Accessing the Government Publishing Office's Web page at http://www.gpo.gov/fdsys/browse/collection.action?collectionCode=FR to view the daily published Federal Register edition; or accessing the “Search the Federal Register by Citation” in the “Related Resources” column on the left, if you need to do a Simple or Advanced search for information, such as a type of document that crosses multiple agencies or dates; or

(2) Visiting TSA's Security Regulations Web page at http://www.tsa.gov and accessing the link for “Stakeholders” at the top of the page, then the link “Research Center” in the left column.

In addition, copies are available by writing or calling the individual in the FOR FURTHER INFORMATION CONTACT section. Make sure to identify the docket number of this rulemaking.

Issued in Arlington, Virginia, February 19, 2015.
Margot F. Bester,
Principal Deputy Chief Counsel.

February 19, 2015

Annual Summary of Enforcement Actions Taken Under 49 U.S.C. 114(v)

Annual Report

Pursuant to 49 U.S.C. 114(v)(7)(A), TSA provides the following summary of enforcement actions taken by TSA in calendar year 2014 under section 114(v).¹

¹ 49 U.S.C. 114(v)(7)(A) states: In general. Not later than December 31, 2008, and annually thereafter, the Secretary shall—(i) provide an annual summary to the public of all enforcement actions taken by the Secretary under this subsection; and (ii) include in each such summary the docket number of each enforcement action, the type of alleged violation, the penalty or penalties proposed, and the final assessment amount of each penalty.

Background

Section 114(v) of title 49 of the U.S. Code gave the Transportation Security Administration (TSA) new authority to assess civil penalties for violations of any surface transportation requirements under 49 U.S.C. and for any violations of chapter 701 of title 46 of the U.S. Code, which governs transportation worker identification credentials (TWICs). Specifically, section 114(v) authorizes the Secretary of the Department of Homeland Security (DHS) to impose civil penalties of up to $10,000 per violation of any surface transportation requirement under title 49 U.S.C. or any requirement related to TWICs under 46 U.S.C. chapter 701.²

² TSA exercises this function under delegated authority from the Secretary. See DHS Delegation No. 7060-2.

Enforcement Actions Taken by TSA in Calendar Year 2014
TSA Case number/type of violation | Penalty proposed/assessed
TSA Case # 2013TPA0154—Rail Car Transfer of Custody (49 CFR 1580.107) | None (Warning Notice).
TSA Case # 2013MEM0087—Rail Car Transfer of Custody (49 CFR 1580.107) | $30,000/$30,000.
TSA Case # 2013MEM0049—Rail Car Transfer of Custody (49 CFR 1580.107) | None (Warning Notice).
TSA Case # 2013MEM0090—Rail Car Transfer of Custody (49 CFR 1580.107) | $20,000/$15,000.
TSA Case # 2014ATL0832—Rail Car Location (49 CFR 1580.103) | None (Letter of Correction).
TSA Case # 2015BOS0008—TWIC—Fraudulent Use or Manufacture (49 CFR 1570.7) | None (Warning Notice).
TSA Case # 2015PHL0014—TWIC—Fraudulent Use or Manufacture (49 CFR 1570.7) | None (Warning Notice).
TSA Case # 2015MOB0002—TWIC—Fraudulent Use or Manufacture (49 CFR 1570.7) | None (Warning Notice).
TSA Case # 2015JAX0007—TWIC—Fraudulent Use or Manufacture (49 CFR 1570.7) | None (Warning Notice).
TSA Case # 2015JAX0006—TWIC—Fraudulent Use or Manufacture (49 CFR 1570.7) | None (Warning Notice).
TSA Case # 2013MCO0310—Reporting Security Concerns (49 CFR 1580.203) | None (Letter of Correction).
TSA Case # 2014IAD0084—TWIC—Fraudulent Use or Manufacture (49 CFR 1570.7) | $4,000/$4,000.
TSA Case # 2014IAD0082—TWIC—Fraudulent Use or Manufacture (49 CFR 1570.7) | $4,000/$4,000.
TSA Case # 2014IAD0083—TWIC—Fraudulent Use or Manufacture (49 CFR 1570.7) | $4,000/$2,000.

[FR Doc. 2015-03798 Filed 2-24-15; 8:45 am]

BILLING CODE 9110-05-P